DEPARTMENT OF COMMERCE

National Oceanic and Atmospheric Administration

RIN 0648-XA444

Marine Mammals and Endangered Species; File Nos. 14245, 1596-03, and 14726-01

AGENCY: National Marine Fisheries Service (NMFS), National Oceanic and Atmospheric Administration (NOAA), Commerce.

ACTION: Notice; issuance of permit and permit modifications.

SUMMARY: Notice is hereby given that NMFS has issued a permit and two permit modifications to conduct research on marine mammals or sea turtles.

ADDRESSES: The permit, permit modifications, and related documents are available for review upon written request or by appointment in the following offices: See SUPPLEMENTARY INFORMATION.

FOR FURTHER INFORMATION CONTACT: Amy Hapeman (for all permits) or one of the following analysts: Carrie Hubard (For File No. 14245), Colette Cairns (for File No. 1596-03) or Kristy Beard (for File No. 14726-01) at (301)713-2289.

SUPPLEMENTARY INFORMATION: On April 27, 2010 and December 29, 2010, notices were published in the Federal Register (75 FR 26715 and 81970, respectively) that a request for a permit to conduct research on 33 species of cetaceans and harass eight species of pinnipeds had been submitted by the NMFS National Marine Mammal Laboratory (NMML; File No. 14245). The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.). The NMML (Dr. John Bengtson, Responsible Party), Alaska Fisheries Science Center, 7600 Sand Point Way, NE, Seattle, WA 98115-6349 has been issued a 5-year permit to conduct research in the Pacific, Atlantic, and Arctic Oceans on marine mammals including endangered blue (Balaenoptera musculus), sei (B. borealis), fin (B. physalus), sperm (Physeter macrocephalus), North Pacific right (Eubalaena japonica), bowhead (Balaena mysticetus), humpback (Megaptera novaeangliae), Southern Resident killer (Orcinus orca), and Cook Inlet beluga (Delphinapterus leucas) whales to monitor cetaceans for scientific and management purposes. Research activities include aerial and vessel surveys, biopsy sampling, tagging, and/or captures and a suite of sampling procedures associated with captures. During vessel surveys researchers may opportunistically collect sloughed skin, fecal samples, and carcass remains. Research activities in the Southern Ocean were withdrawn by NMML after the close of the public comment period. In addition, NMFS did not authorize requested capture activities for Cook Inlet beluga whales. The permit is valid through May 1, 2016.

On May 12, 2010, notice was published in the Federal Register (75 FR 26715) that a modification of Permit No. 1596-02 had been requested by the NMFS Southwest Fisheries Science Center (SWFSC; File No. 1596-03) for research on sea turtles. The SWFSC (Dr. Lisa Ballance, Responsible Party), 3333 N. Torrey Pines Ct., La Jolla, CA 92037 was issued a modification to Permit No. 1596-02, issued May 3, 2009 (74 FR 38585). Permit No. 1596-02 authorizes the SWFSC to conduct research on leatherback (Dermochelys coriacea) sea turtles captured off the western coast of the continental United States to continue long-term monitoring of the status of the species. Researchers may capture, measure, weigh, blood and tissue sample, photograph, flipper and passive integrated transponder (PIT) tag, fat biopsy, ultrasound, satellite tag, and attach a VHF/TDR/sonic tag/video system, VHR/TDR/sonic tag/GPS unit, or VHR/TDR/sonic tag/GPS/video camera system to leatherback sea turtles. Animals with the video camera system may be re-approached to collect the unit and then sampled, tagged, and have another video camera unit attached. This permit modification, No. 1596-03, authorizes the SWFSC to directly attach a tag to the animal's medial ridge in place of the previously authorized harness attachment. Researchers may also attach a VHF/TDR/Sonic tag/GPS/Video camera system by suction cup to the free-swimming turtle prior to capture. These tags would provide valuable information on leatherback movements and behavior in the Pacific Ocean between their foraging areas and nesting beaches. The modification is valid until the permit expires February 1, 2012.

On February 3, 2011, notice was published in the Federal Register (76 FR 6118) that a modification to Permit No. 14726 had been requested by Dr. Blair Witherington (File No. 14726-01) for research on sea turtles. Dr. Witherington, Florida Fish and Wildlife Conservation Commission, 9700 South A1A, Melbourne Beach, FL, 32951 was issued a modification to Permit No. 14726, issued September 3, 2010 (75 FR 61133). Permit No. 14726 authorizes him to locate and describe areas of the Atlantic Ocean and Gulf of Mexico near Florida that serve as developmental habitat for pelagic stage juvenile and neonate loggerhead (Caretta caretta), green (Chelonia mydas), Kemp's ridley (Lepidochelys kempii), hawksbill (Eretmochelys imbricata), and leatherback sea turtles, to quantify threats to pelagic sea turtles, and to gather information on their life-history, genetics, movements, behavior, and diet. Researchers are authorized to capture by dip net, flipper and PIT tag, measure, weigh, and oral swab sea turtles. A subset of animals may be skin biopsied, lavaged or have a satellite tag attached. The permit modification authorizes Dr. Witherington to: (1) Increase the number and life stages of sea turtles that may be taken annually; (2) authorize fecal sampling for all animals and satellite tagging for a subset of green sea turtles; and (3) expand the authorized study area to include the entire Gulf of Mexico. This work will: (1) Identify threats to pelagic sea turtles, and (2) document the density, condition, diet, and potential Mississippi Canyon 252 oil exposure of pelagic sea turtles associated with floating Sargassum as part of the post-spill Natural Resources Damage Assessment of the BP Deepwater Horizon event. The modified permit is valid through December 31, 2011.

The requested permit modifications have been granted under the authority of the Endangered Species Act of 1973, as amended (ESA; 16 U.S.C. 1531 et seq.) and the regulations governing the taking, importing, and exporting of endangered and threatened species (50 CFR 222-226).

An environmental assessment (EA) or supplemental EA was prepared for each permit request analyzing the effects of the permitted activities on the human environment in compliance with the National Environmental Policy Act of 1969 (42 U.S.C. 4321 et seq.). Based on these analyses, NMFS determined that issuance of the permit and permit modifications would not significantly impact the quality of the human environment and that preparation of an environmental impact statement was not required. That determination is documented in a Finding of No Significant Impact (FONSI), signed on the following dates for each permit: File No. 14245: April 22, 2011, File No. 1596-03: April 15, 2011, and File No. 14726-01: April 7, 2011.

As required by the ESA, issuance of the permits and permit modifications was based on a finding that such permits: (1) Were applied for in good faith; (2) will not operate to the disadvantage of such endangered species; and (3) are consistent with the purposes and policies set forth in section 2 of the ESA.

Documents may be reviewed at: all of the following locations for File No. 14245, the Southwest Region for File No. 1596-03, and the Southeast Region for File No. 14726-01:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978) 281-9394; and

Southeast Region, NMFS, 263 13th Avenue South, Saint Petersburg, Florida 33701; phone (727)824-5312; fax (727)824-5309.

Dated: May 19, 2011.
P. Michael Payne,
Chief, Permits, Conservation and Education Division, Office of Protected Resources, National Marine Fisheries Service.

[FR Doc. 2011-12999 Filed 5-24-11; 8:45 am]

BILLING CODE 3510-22-P